DEPARTMENT OF HEALTH AND HUMAN SERVICES

Administration for Children and Families

Submission for OMB Review; Provision of Child Support Services in IV-D Cases Under the Hague Child Support Convention; Federally-Approved Forms (OMB #0970-0488)

AGENCY: Office of Child Support Enforcement, Administration for Children and Families, HHS.

ACTION: Request for public comment.

SUMMARY: The Office of Child Support Enforcement (OCSE), Administration for Children and Families (ACF) is requesting a three-year extension of the Hague Child Support Forms (OMB #0970-0488, expiration 4/30/2020). There are no changes requested to the form.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: On January 1, 2017, the 2007 Hague Convention on the International Recovery of Child Support and Other Forms of Family Maintenance entered into force for the United States. This multilateral Convention contains groundbreaking provisions that, on a worldwide scale, establish uniform, simple, fast, and inexpensive procedures for the processing of international child support cases. Under the Convention, U.S. states process child support cases with other countries that have ratified the Convention under the requirements of the Convention and Article 7 of the Uniform Interstate Family Support Act (UIFSA 2008). In order to comply with the Convention, the U.S. implements the Convention's case processing forms.

State and Federal law require states to use federally approved case processing forms. Section 311(b) of UIFSA 2008, which has been enacted by all 50 states, the District of Columbia, Guam, Puerto Rico, and the Virgin Islands, requires states to use forms mandated by Federal law. 45 CFR 303.7 also requires child support programs to use federally approved forms in intergovernmental IV-D cases unless a country has provided alternative forms as a part of its chapter in a Caseworker's Guide to Processing Cases with Foreign Reciprocating Countries.

Respondents: State agencies administering a child support program under title IV-D of the Social Security Act.

Annual Burden Estimates
Instrument | Total number of respondents | Total number of responses per respondent | Average burden hours per response | Total burden hours
Annex I: Transmittal form under Article 12(2) | 54 | 45 | 1 | 2,430
Annex II: Acknowledgment form under Article 12(3) | 54 | 90 | .5 | 2,430
Annex A: Application for Recognition and Enforcement, including restricted information on the applicant | 54 | 18 | .5 | 486
Annex A: Abstract of Decision | 54 | 4 | 1 | 216
Annex A: Statement of Enforceability of Decision | 54 | 18 | 0.17 | 165
Annex A: Statement of Proper Notice | 54 | 4 | .5 | 108
Annex A: Status of Application Report—Article 12 | 54 | 36 | .33 | 642
Annex B: Application for Enforcement of a Decision Made or Recognized in the Requested State, including restricted information on the applicant | 54 | 18 | .5 | 486
Annex B: Status of Application Report—Article 12 | 54 | 36 | .33 | 642
Annex C: Application for Establishment of a Decision, including restricted information on the Applicant | 54 | 4 | .5 | 108
Annex C: Status of Application Report—Article 12 | 54 | 9 | .33 | 160
Annex D: Application for Modification of a Decision, including Restricted Information on the Applicant | 54 | 4 | .5 | 108
Annex D: Status of Application Report—Article 12 | 54 | 9 | .33 | 160
Annex E: Financial Circumstances Form | 54 | 45 | 2 | 4,860

Estimated Total Annual Burden Hours: 13,001.

Authority: 42 U.S.C. 654(20) and 666(f).

Mary B. Jones,
ACF/OPRE Certifying Officer.

[FR Doc. 2019-28109 Filed 12-27-19; 8:45 am]

BILLING CODE 4184-41-P